DEPARTMENT OF JUSTICE

Immigration and Naturalization Service

[INS No. 2065-00; AG Order No. 2302-2000]

RIN 1115-AE26

Extension of Designation of Honduras Under Temporary Protected Status Program

AGENCY: Immigration and Naturalization Service, Justice.

ACTION: Notice.

SUMMARY: This notice extends the Attorney General's designation of Honduras under the Temporary Protected Status (TPS) program until July 5, 2001. Eligible nationals of Honduras (or aliens having no nationality who last habitually resided in Honduras) may re-register for TPS and an extension of employment authorization. Re-registration is limited to persons who registered during the initial registration period, which ended on August 20, 1999, or who registered after the date under the late initial registration provision. Persons who are eligible for late initial registration may register for TPS during this extension.

EFFECTIVE DATES: The extension of the TPS designation for Honduras is effective July 6, 2000, and will remain in effect until July 5, 2001. The 30-day re-registration period begins May 11, 2000 and will remain in effect until June 12, 2000.

FOR FURTHER INFORMATION CONTACT: Michael Hardin, Residence and Status Services Branch, Adjudications, Immigration and Naturalization Service, Room 3214, 425 I Street, NW., Washington, DC 20536, telephone (202) 514-4754.

SUPPLEMENTARY INFORMATION:

What Authority Does the Attorney General Have To Extend the Designation of Honduras Under the TPS Program?

Section 244(b)(3)(A) of the Immigration and Nationality Act (Act) states that at least 60 days before the end of an extension or a designation, the Attorney General must review conditions in the designated foreign state. 8 U.S.C. 1254a(b)(3)(A). If the Attorney General determines that the foreign state continues to meet the conditions for designation, the period of designation is extended, pursuant to section 244(b)(3)(C) of the Act. 8 U.S.C. 1254a(b)(3)(C). Through such an extension, TPS is available only to persons who have been continuously physically present since January 5, 1999, and have continuously resided in the United States from December 30, 1998.

Why Did the Attorney General Decide to Extend the TPS Designation for Honduras?

On January 5, 1999, the Attorney General initially designated Honduras for TPS for a period of 18 months. 64 FR 524 (Jan. 5, 1999). The Departments of State and Justice have recently reviewed conditions within Honduras. The review resulted in a consensus that a 12-month extension is warranted. The reasons for the extension are explained in a State Department memorandum that states: “The conditions which led to the original designation are less severe, but continue to cause substantial disruption to living conditions in Honduras.” The memorandum also states that “[a]ccording to best estimates, roughly half of the destruction in Honduras remains unaddressed, and 12,000 people remain homeless while many more are in temporary shelters.”

The State Department memorandum concludes that reconstruction efforts should make significant progress during the 2000 calendar year. An Immigration and Naturalization Service memorandum concurs with the State Department, finding that Honduras has made little progress in recovering from Hurricane Mitch and that the minor reconstruction that has taken place has not sufficiently countered the devastation to warrant the termination of TPS. For example, the memorandum reports that “[i]n many cases, survivors of Mitch are in the same situation they were in a year ago with estimates of between 30,000 and 250,000 remaining in temporary shelters surviving on provisions from the World Food Program.”

Based on these recommendations, the Attorney General finds the situation in Honduras meets the conditions for extension under section 244(b)(3)(C) of the Act. 8 U.S.C. 1254a(b)(3)(C). There continues to be a substantial, but temporary, disruption of living conditions in Honduras as a result of environmental disaster, and Honduras continues to be unable, temporarily, to handle adequately the return of its nationals. 8 U.S.C. 1254a(b)(1)(B)(i)-(ii). Therefore, the review failed to show that country conditions have improved to a degree that supports termination. Even in cases where conditions have improved, the Act provides for automatic extension in the absence of a determination by the Attorney General that country conditions no longer support a TPS designation. Since the Attorney General did not determine that the conditions in Honduras no longer warrant TPS, the designation is automatically extended.

On the basis of these findings, an extension of the TPS designation for Honduras is warranted for an additional 12-month period. 8 U.S.C. 1254a(b)(3)(C).

If I Currently Have TPS, How Do I Register for an Extension?

Only persons previously granted TPS or those with pending applications under the initial Honduras designation may apply for an extension by filing a Form I-821, Application for Temporary Protected Status, without the fee, during the re-registration period that begins May 11, 2000 and ends June 12, 2000. Additionally, you must file a Form I-765, Application for Employment Authorization. See the chart below to determine whether you must submit the one-hundred dollar ($100) filing fee with the Form I-765.

Chart 1
If | Then
You are applying for employment authorization through July 5, 2001 | You must complete and file the Form I-765, Application for Employment Authorization, with the one-hundred dollar ($100) fee.
You already have employment authorization or do not require employment authorization | You must complete and file the Form I-765 with no fee.
You are applying for employment authorization and are requesting a fee waiver | You must complete and file the Form I-765, a fee waiver request, and the requisite affidavit (and any other information), in accordance with 8 CFR 244.20.

To re-register for TPS, you also must include two identification photographs (1½″ x 1½″).

Is Late Initial Registration Possible?

Yes. In addition to timely re-registration, late initial registration is possible for some persons from Honduras under 8 CFR 244.2(f)(2). Late initial registration applicants must meet the following requirements:

• Be a national of Honduras (or an alien having no nationality who last habitually resided in Honduras);

• Have been continuously physically present in the United States since January 5, 1999;

• Have continuously resided in the United States since December 30, 1998; and

• Be admissible as an immigrant, except as provided under section 244(c)(2)(A) of the Act, and not ineligible under section 244(c)(2)(B) of the Act.

Additionally, the applicant must be able to demonstrate that, during the initial registration period from January 5, 1999, through July 5, 1999, he or she:

• Was in valid nonimmigrant status, or had been granted voluntary departure status or any relief from removal;

• Had an application for change of status, adjustment of status, asylum, voluntary departure, or any relief from removal pending or subject to further review or appeal;

Was a parolee or has a pending request for reparole; or

Was the spouse or child of an alien currently eligible to be a TPS registrant.

8 CFR 244.2(f)(2).

An applicant for late initial registration must register no later than sixty (60) days from the expiration or termination of the qualifying condition. 8 CFR 244.2(g).

Where Should I File for an Extension of TPS?

Persons seeking to register for an extension of TPS must submit an application and accompanying materials to the Immigration and Naturalization Service's Service Center that has jurisdiction over the applicant's place of residence.

If you live in Connecticut, Delaware, the District of Columbia, Maine, Maryland, Massachusetts, New Hampshire, New Jersey, New York, Pennsylvania, Puerto Rico, Rhode Island, Vermont, Virginia, West Virginia, or in the U.S. Virgin Islands, please mail your application to: Vermont Service Center, ATTN: TPS, 75 Lower Welden Street, St. Albans, VT 05479.

If you live in Arizona, California, Guam, Hawaii or Nevada, please mail your application to: California Service Center, ATTN: TPS, 24000 Avila Road, 2nd Floor Laguna Niguel, CA 92677-8111.

If you live in Alabama, Arkansas, Florida, Georgia, Kentucky, Louisiana, Mississippi, New Mexico, North Carolina, Oklahoma, South Carolina, Tennessee, or Texas, please mail your application to: Texas Service Center, P.O. Box 850997, Mesquite, TX 75185-0997.

If you live elsewhere in the United States, please mail your application to: Nebraska Service Center, P.O. Box 87821, Lincoln, NE 68501-7821.

When Can I Register for an Extension of TPS?

The 30-day re-registration period begins May 11, 2000 and will remain in effect until June 12, 2000.

Can I Apply for an Extension of My Work Authorization if I Have Been Granted Employment Authorization on the Basis of My Pending Form I-821, and as of July 5, 2000, My Form I-821 Is Still Pending?

Yes, you can apply for an extension of your employment authorization. Follow the instructions in Chart 1 and submit your application to the service center that has jurisdiction over your place of residence during the 30-day registration period listed above.

How Does an Application for TPS Affect My Application for Asylum or Other Immigration Benefits?

An application for TPS does not preclude or affect an application for asylum or any other immigration benefit. A national of Honduras (or alien having no nationality who last habitually resided in Honduras) who is otherwise eligible for TPS and has applied for or plans to apply for asylum, but who has not yet been granted asylum or withholding of removal, may also apply for TPS. Denial of an application for asylum or any other immigration benefit does not affect an applicant's ability to register for TPS, although the grounds of denial may also be grounds of denial for TPS. For example, a person who has been convicted of an aggravated felony is not eligible for asylum or TPS.

Does This Extension Allow Nationals of Honduras (or Aliens Having No Nationality Who Last Habitually Resided in Honduras) Who Entered the United States After December 30, 1998, To File for TPS?

No. This is a notice of an extension of the TPS designation for Honduras, not a notice of redesignation of Honduras under the TPS program. An extension of TPS does not change the required dates of continuous physical presence and residence in the United States, and does not expand the TPS program to include nationals of Honduras (or aliens having no nationality who last habitually resided in Honduras) who arrived in the United States after the date of the initial designation, in this case, January 5, 1999, or the date designated for continuous residence, in this case, December 30, 1998.

Notice of Extension of Designation of Honduras Under the TPS Program

By the authority vested in me as Attorney General under sections 244(b)(3)(A) and (C), and (b)(1) of the Act, I have consulted with the appropriate agencies of the Government concerning whether the conditions under which Honduras was initially designated for TPS continue to exist. As a result, I determine that the conditions for the initial designation of TPS for Honduras continue to be met. 8 U.S.C. 1254a(b)(3)(A) and (C), (b)(1). Accordingly, I order as follows:

(1) The designation of Honduras under section 244(b) of the Act is extended for an additional 12-month period from July 6, 2000, until July 5, 2001. 8 U.S.C. 1254a(b)(3)(C).

(2) I estimate that there are approximately 100,000 nationals of Honduras (or aliens having no nationality who last habitually resided in Honduras) who have been granted TPS and who are eligible for re-registration.

(3) In order to be eligible for TPS during the period from July 6, 2000, through July 5, 2001, a national of Honduras (or alien having no nationality who last habitually resided in Honduras) who received a grant of TPS (or has an application pending) during the initial period of designation from January 5, 1999, until July 5, 2000, must re-register for TPS by filing a new Application for Temporary Protected Status, Form I-821, along with an Application for Employment Authorization, Form I-765, within the 30-day period beginning May 11, 2000 and ending on June 12, 2000. Late re-registration will be allowed only for good cause pursuant to 8 CFR 244.17(c).

(4) Pursuant to section 224(b)(3)(A) of the Act, the Attorney General will review, at least 60 days before July 5, 2001, the designation of Honduras under the TPS program to determine whether the conditions for designation continue to be met. 8 U.S.C. 1254a(b)(3)(A). Notice of that determination, including the reasons underlying it, will be published in the Federal Register.

(5) Information concerning the TPS program for nationals of Honduras (or aliens having no nationality who last habitually resided in Honduras) will be available at local Service offices upon publication of this notice and on the INS website at http://www.ins.usdoj.gov.

Dated: May 5, 2000.
Janet Reno,
Attorney General.

[FR Doc. 00-11786 Filed 5-10-00; 8:45 am]

BILLING CODE 4410-10-M